SECURITIES AND EXCHANGE COMMISSION

[File No. 500-1]

In the Matter of: TelcoBlue, Inc.; Order of Suspension of Trading

February 22, 2008.

It appears to the Securities and Exchange Commission that there is a lack of current and accurate information concerning the securities of TelcoBlue, Inc. (“TelcoBlue”) because TelcoBlue has failed to file its last six required periodic reports.

The Commission is of the opinion that the public interest and the protection of investors require a suspension of trading in the securities of the above-listed company.

Therefore, it is ordered, pursuant to section 12(k) of the Securities Exchange Act of 1934, that trading in the above-listed company is suspended for the period from 9:30 a.m. EST on February 22, 2008 through 11:59 p.m. EST on March 6, 2008.

By the Commission.
J. Lynn Taylor,
Assistant Secretary.

[FR Doc. 08-861 Filed 2-22-08; 10:44 am]

BILLING CODE 8011-01-P